DEPARTMENT OF ENERGY

Federal Energy Regulatory Commission

[Docket No. EC02-56-000, et al.]

Mirant Americas Generation LLC, et al.; Electric Rate and Corporate Regulation Filings

March 21, 2002.

Take notice that the following filings have been made with the Commission. Any comments should be submitted in accordance with Standard Paragraph E at the end of this notice.

1. Mirant Americas Generation LLC, Dominion State Line, Inc.

[Docket No. EC02-56-000]

Take notice that on March 15, 2002, Mirant Americas Generation, LLC, and Dominion State Line, Inc. (collectively, the Applicants) filed with the Federal Energy Regulatory Commission (Commission) a joint application (Application) pursuant to Section 203 of the Federal Power Act for authorization of the sale by Mirant Americas Generation, LLC, an indirect subsidiary of Mirant Corporation, to Dominion State Line, Inc., an indirect subsidiary of Dominion Resources, Inc, of one hundred percent (100%) of the issued and outstanding capital stock of Mirant State Line Ventures, Inc., which holds, through its direct and indirect subsidiaries, one hundred percent (100%) of the ownership interests in State Line Energy, L.L.C. State Line Energy, L.L.C. owns and operates the approximately 515 MW, coal-fired State Line power generation facility in Hammond, Indiana.

Comment Date: May 14, 2002.

2. Mirant Oregon, L.L.C.

[Docket No. ER02-1331-000]

Take notice that on March 18, 2002, Mirant Oregon, L.L.C. (Mirant Oregon) tendered for filing with the Federal Energy Regulatory Commission (Commission), an application for an order accepting its FERC Electric Tariff No. 1, granting certain blanket approvals, including the authority to sell electricity at market-base rates, and waiving certain regulations of the Commission.

Mirant Oregon requested that its Rate Schedule No. 1 become effective upon the earlier of the date the Commission authorizes market-based rate authority, or May 1, 2002. Mirant Oregon also filed its FERC Electric Tariff No. 1.

Comment Date: April 8, 2002.

3. Progress Energy, Inc. on behalf of Carolina Power & Light Company, Progress Ventures, Inc., Monroe Power Company, Effingham County Power LLC, Rowan County Power, LLC and MPC Generating LLC

[Docket No. ER02-1334-000]

Take notice that on March 15, 2002, Progress Energy, Inc. on behalf of Carolina Power & Light Company, Progress Ventures, Inc., Monroe Power Company, Effingham County Power LLC, Rowan County Power, LLC and MPC Generating LLC (collectively the Applicants), tendered for filing with the Federal Energy Regulatory Commission (Commission) an Assignment and Assumption Agreement among Monroe Power, MPC Generating, and Georgia Power Company.

Comment Date: April 5, 2002.

4. BP West Coast Products LLC

[Docket No. ER02-1335-000]

Take notice that on March 19, 2002, BP West Coast Products LLC (BP West Coast Products) tendered for filing with the Federal Energy Regulatory Commission (Commission), pursuant to section 205 of the Federal Power Act, 16 U.S.C. 824d (2000), and part 35 of the Commission's regulations, 18 CFR part 35, a petition for waivers and blanket approvals under various regulations of the Commission and for an order accepting its FERC Electric Tariff No. 1 authorizing BP West Coast Products to make sales at market-based rates.

BP West Coast Products intends to sell electric power at wholesale. In transactions where BP West Coast Products sells electric energy, it proposes to make such sales on rates, terms, and conditions to be mutually agreed to with the purchasing party. BP West Coast Products' Tariff provides for the sale of energy and capacity at agreed prices.

Comment Date: April 9, 2002.

5. Virginia Electric and Power Company

[Docket No. ER02-1337-000]

Take notice that on March 19, 2002, Virginia Electric and Power Company (Dominion Virginia Power or the Company) tendered for filing with the Federal Energy Regulatory Commission (Commission), a Service Agreement by Virginia Electric and Power Company to Dominion Retail, Inc. Designated as Service Agreement No. 2 under the Company's Wholesale Cost-Based Rate Tariff, FERC Electric Tariff, Original Volume No. 7, effective on January 16, 2002.

The Company requests an effective date of March 1, 2002, as requested by the customer.

Copies of the filing were served upon Dominion Retail, Inc., the Virginia State Corporation Commission, and the North Carolina Utilities Commission.

Comment Date: April 9, 2002.

6. Puget Sound Energy, Inc.

[Docket No. ER02-1338-000]

Take notice that on March 19, 2002, Puget Sound Energy, Inc., as Transmission Provider, tendered for filing a Service Agreement for Firm Point-To-Point Transmission Service and a Service Agreement for Non-Firm Point-To-Point Transmission Service with Sempra Energy Trading Corp. (Sempra), as Transmission Customer.

A copy of the filing was served upon Sempra.

Comment Date: April 9, 2002.

7. Pacific Gas and Electric Company

[Docket No. ER02-1339-000]

Take notice that on March 19, 2002, Pacific Gas and Electric Company (PG&E) tendered for filing proposed changes in rates for Sacramento Municipal Utility District (SMUD), to be effective July 1, 2001, developed using a rate adjustment mechanism previously agreed by PG&E and SMUD for First Revised PG&E Rate Schedule FERC Nos. 88, 91, and 136.

Copies of this filing have been served upon SMUD, the California Independent System Operator Corporation, and the California Public Utilities Commission.

Comment Date: April 9, 2002.

8. PJM Interconnection, L.L.C.

[Docket No. ER02-1340-000]

Take notice that on March 18, 2002, PJM Interconnection, L.L.C. (PJM), filed a Notice of Cancellation notifying the Commission that effective September 22, 2001, FPL Energy Services, Inc. (FPLES) has withdrawn from PJM membership, and that the following service agreements with FPLES have been cancelled: (1) umbrella agreement for non-firm point-to-point transmission service (PJM FERC Electric Tariff Third Revised Volume No. 1—Service Agreement No. 303); (2) umbrella agreement for network integration transmission service under state required retail access programs (PJM FERC Electric Tariff Third Revised Volume No. 1—Service Agreement No. 263); and (3) umbrella agreement for short-term firm point-to-point transmission service (PJM FERC Electric Tariff Third Revised Volume No. 1—Service Agreement No. 287).

Copies of this filing were served upon all PJM members, FPLES, and each state electric utility regulatory commission in the PJM region.

PJM requests an effective date of September 22, 2001 for FPLES's withdrawal from membership in PJM, and the cancellation of the service agreements.

Comment Date: April 8, 2002.

Standard Paragraph

E. Any person desiring to be heard or to protest such filing should file a motion to intervene or protest with the Federal Energy Regulatory Commission, 888 First Street, NE., Washington, DC 20426, in accordance with Rules 211 and 214 of the Commission's rules of practice and procedure (18 CFR 385.211 and 385.214). All such motions or protests should be filed on or before the comment date. Protests will be considered by the Commission in determining the appropriate action to be taken, but will not serve to make protestants parties to the proceeding. Any person wishing to become a party must file a motion to intervene. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

Magalie R. Salas,
Secretary.

[FR Doc. 02-7444 Filed 3-27-02; 8:45 am]

BILLING CODE 6717-01-P